SURFACE TRANSPORTATION BOARD

[Docket No. FD 36233]

Herrin Railroad, LLC—Acquisition & Operation Exemption—City of Herrin, Ill

Herrin Railroad, LLC (HR), a noncarrier, has filed a verified notice of exemption under 49 CFR 1150.31 to lease from the City of Herrin, Ill. (the City), and operate approximately 3.7 miles of rail lines, between milepost 10.7 and milepost 13.4, and north from the wye track between milepost C94 and milepost C93 at and near Herrin, in Williamson County, Ill. (the Lines).

According to HR, an agreement has been reached whereby HR will lease the Lines from the City and operate them, contingent upon HR's obtaining all necessary regulatory approvals. HR states that it will become a Class III rail carrier and will provide common carrier rail service to shippers on the Lines. HR states that the lease between HR and the City does not contain an interchange commitment.

HR certifies that its projected annual revenues as a result of the proposed transaction will not result in HR's becoming a Class II or Class I rail carrier and will not exceed $5 million.

The proposed transaction may be consummated on or after April 28, 2019, the effective date of the exemption (30 days after the verified notice was filed).¹

¹ HR originally filed its verified notice on February 21, 2019, and supplemented it on February 28, 2019. In response to a subsequent Board order, HR further supplemented its verified notice on March 29, 2019, by clarifying that the City retains ownership of the Lines and stating that “[t]he City has never conveyed ownership of the subject lines in its dealings with [Crab Orchard & Egyptian Railroad Company (COER) or [Progressive Railroad Incorporated (PGR)].” (HR Suppl. 1, Mar. 29, 2019.) In light of HR's supplement, the verified notice is deemed to have been filed on March 29, 2019. The Board will serve this notice on COER and PGR.

If the verified notice contains false or misleading information, the exemption is void ab initio. Petitions to revoke the exemption under 49 U.S.C. 10502(d) may be filed at any time. The filing of a petition to revoke will not automatically stay the effectiveness of the exemption. Petitions for stay must be filed no later than April 19, 2019 (at least seven days before the exemption becomes effective).

An original and 10 copies of all pleadings, referring to Docket No. FD 36233, must be filed with the Surface Transportation Board, 395 E Street SW, Washington, DC 20423-0001. In addition, one copy of each pleading must be served on HR's representative, Barry W. Bridgforth, Jr., Bridgforth, Buntin & Emerson, PLLC, 5293 Getwell Road, Southaven, MS 38672.

According to HR, this action is categorically excluded from environmental review under 49 CFR 1105.6(c) and from historic reporting requirements under 49 CFR 1105.8(b).

Board decisions and notices are available at www.stb.gov.

Decided: April 8, 2019.
By the Board, Allison C. Davis, Acting Director, Office of Proceedings.
Tammy Lowery,
Clearance Clerk.

[FR Doc. 2019-07310 Filed 4-11-19; 8:45 am]

BILLING CODE 4915-01-P